POSTAL SERVICE

Board of Governors; Sunshine Act Meeting

DATES AND TIMES: Thursday, February 6, 2020, at 11:00 a.m.; Thursday, February 6, 2020, at 4:00 p.m.

PLACE: Washington, DC, at U.S. Postal Service Headquarters, 475 L'Enfant Plaza, SW, in the Benjamin Franklin Room.

STATUS: Thursday, February 6, 2020, at 11:00 a.m.—Closed. Thursday, February 6, 2020, at 4:00 p.m.—Open.

MATTERS TO BE CONSIDERED:

Thursday, February 6, 2020, at 11:00 a.m. (Closed)

1. Strategic Issues.

2. Financial and Operational Matters.

3. Compensation and Personnel Matters.

4. Executive Session—Discussion of prior agenda items and Board governance.

Thursday, February 6, 2020, at 4:00 p.m. (Open)

1. Remarks of the Chairman of the Board of Governors.

2. Remarks of the Postmaster General and CEO.

3. Approval of Minutes of Previous Meetings.

4. Committee Reports.

5. FY2020 Integrated Financial Plan.

6. Quarterly Financial Report.

7. Quarterly Service Performance Report.

8. Approval of Tentative Agenda for the April 1 Meeting.

A public comment period will begin immediately following the adjournment of the open session on February 6, 2020. During the public comment period, which shall not exceed 30 minutes, members of the public may comment on any item or subject listed on the agenda for the open session above. Registration of speakers at the public comment period is required. Speakers may register online at https://www.surveymonkey.com/r/BOG-02-06-2020. Onsite registration will be available until thirty minutes before the meeting starts. No more than three minutes shall be allotted to each speaker. The time allotted to each speaker will be determined after registration closes. Participation in the public comment period is governed by 39 CFR 232.1(n).

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2020-01652 Filed 1-27-20; 11:15 am]

BILLING CODE 7710-12-P